FEDERAL TRADE COMMISSION

[File No. P072108]

Agency Information Collection Activities; Proposed Collection; Comment Request; Extension; Correction

AGENCY: Federal Trade Commission.

ACTION: Notice; correction.

SUMMARY: The Federal Trade Commission (“Commission”) published a document in the Federal Register of January 23, 2026, concerning its proposal to extend for an additional three years the Office of Management and Budget (“OMB”) clearance for its shared enforcement authority with the Consumer Financial Protection Bureau (“CFPB”) for information collection requirements contained in the CFPB's Regulation O. Shortly after publication, Commission staff learned the document contained an incorrect reference to the Funeral Rule. The Commission issues this correction to reflect the corrected reference to Regulation O.

FOR FURTHER INFORMATION CONTACT: Stephanie Rosenthal, Division of Financial Practices, Bureau of Consumer Protection, Federal Trade Commission, 600 Pennsylvania Ave. NW, Washington, DC 20580, (202) 326-3332.

SUPPLEMENTARY INFORMATION: The notice document submitted by Commission staff for publication contained an incorrect reference to the Funeral Rule instead of the intended reference to Regulation O.

Correction

In notice FR Doc. 2026-01233 appearing at 91 FR 2933 in the Federal Register of Friday, January 23, 2026, make the following correction. On page 2934, in the last sentence of the first paragraph of the Abstract section, the reference to “the Funeral Rule” is corrected to read “Regulation O”.

Dated: February 4, 2026.
Joel Christie,
Acting Secretary.

[FR Doc. 2026-02457 Filed 2-5-26; 8:45 am]

BILLING CODE 6750-01-P